DEPARTMENT OF ENERGY

Agency Information Collection Extension

AGENCY: Department of Energy.

ACTION: Submission for Office of Management and Budget (OMB) review; comment request.

SUMMARY: The Department of Energy (DOE), pursuant to the Paperwork Reduction Act of 1995, intends to extend for three years the information collection packages listed at the end of this notice. Comments are invited on: (a) Whether the extended information collections are necessary for the proper performance of the functions of the agency, including whether the information has practical utility; (b) the accuracy of the agency's estimate of the burden of the information collections, including the validity of the methodology and assumptions used; (c) ways to enhance the quality, utility, and clarity of the information to be collected; and (d) ways to minimize the burden of the information collections on respondents, including through the use of automated collection techniques or other forms of information technology.

DATES: Comments regarding this collection must be received on or before April 27, 2006. If you anticipate that you will be submitting comments, but find it difficult to do so within the period of time allowed by this notice, please advise the OMB Desk Officer of your intention to make a submission as soon as possible. The Desk Officer may be telephoned at 202-395-4650.

ADDRESSES: Written comments should be sent to: DOE Desk Officer, Office of Information and Regulatory Affairs, Office of Management and Budget, New Executive Office Building, Room 10102, 735 17th Street, NW., Washington, DC 20503.

Comments should also be addressed to: Jeffrey Martus, IM-11/Germantown Building, U.S. Department of Energy, 1000 Independence Ave SW., Washington, DC 20585-1290, or by fax at 301-903-9061 or by e-mail at Jeffrey.martus@hq.doe.gov.

FOR FURTHER INFORMATION CONTACT: Requests for additional information or copies of the information collection instrument and instructions should be directed to Jeffrey Martus at the address listed above in ADDRESSES.

SUPPLEMENTARY INFORMATION: The information collection packages listed in this notice for public comment include the following:

1. (1) OMB No.: 1910-0300. (2) Package Title: Environment, Safety and Health. (3) Type of Review: Renewal. (4) Purpose: This information is required to ensure that environment, safety, and health resources and requirements are managed efficiently and effectively and to exercise management oversight of DOE contractors. (5) Respondents: 111,038. (6) Estimated Number of Burden Hours: 195,000.

2. (1) OMB No.: 1910-5101. (2) Package Title: U.S. Dept. of Energy: Annual Alternative Fuel Vehicle Acquisition Report for State Government & Alternative Fuel Provider Fleets. (3) Type of Review: Renewal. (4) Purpose: This collection is critical to ensure the Government has sufficient information to ensure that covered fleets are complying with annual reporting and acquisition requirements under the Alternative Fuel Transportation Program. (5) Respondents: 317. (6) Estimated Number of Burden Hours: 1,585.

3. (1) OMB No.: 1910-5111. (2) Package Title: Purchasing by DOE Management and Operating Contractors from Contractor Affiliated Sources. (3) Type of Review: Renewal. (4) Purpose: This information is required by the Department to ensure that programmatic and administrative management requirements and resources are managed efficiently and effectively. The package contains one information and/or recordkeeping requirement, that is, the provision found at 48 CFR 952.209-8, Organizational Conflicts of Interest Disclosure—Advisory and Assistance Services. (5) Respondents: 20. (6) Estimated Number of Burden Hours: 100.

4. (1) OMB No.: 1910-5121. (2) Package Title: End-Use Certificate. (3) Type of Review: Renewal. (4) Purpose: This information is required to determine the acceptability of the individual(s) acquiring High Risk personal property; inform buyers of the laws and regulations governing the use, disposition, export and re-export of High Risk property and ensure that the property is used as stipulated in the End-Use Certificate. (5) Respondents: 5,000. (6) Estimated Number of Burden Hours: 1,650.

5. (1) OMB No.: 1910-0500. (2) Package Title: Financial Management. (3) Type of Review: Renewal. (4) Purpose: This information is required by the Department to ensure that financial management resources and requirements are managed efficiently and effectively and to exercise management oversight of DOE contractors. (5) Respondents: 12,626. (6) Estimated Burden Hours: 152,704.

6. (1) OMB No.: 1910-0400; (2) Package Title: Financial Assistance (3) Type of Review: Renewal. (4) Purpose: This package contains information collections necessary for the solicitation, award, administration, and closeout of grants and cooperative agreements (5) Estimated Number of Respondents: 26,902 (6) Estimated Total Burden Hours: 339,792.

Statutory Authority: Department of Energy Organization Act, Public Law 95-91.

Issued in Washington, DC on March 21, 2006.
Jeffrey D. Martus,
Records Management Division, Office of the Chief Information Officer.

[FR Doc. E6-4489 Filed 3-27-06; 8:45 am]

BILLING CODE 6450-01-P